ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plan previously submitted by Colorado.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. EAC has not previously published an update to the Colorado State plan.

The submission from Colorado addresses material changes in the State budget of its previously submitted State plan and, in accordance with HAVA section 254(a)(12), provides information on how the State succeeded in carrying out its previous State plan. The amendment specifically focuses on using fiscal year 2008 requirements payments received by Colorado toward the costs of implementing the computerized statewide voter registration system required by HAVA Section 303. Specifically, Colorado will utilize the new funding to provide technical field support for election officials in every county of the state on the use of the new statewide voter registration system.

Upon the expiration of thirty days from August 13, 2008, Colorado will be eligible to implement the material changes addressed in the plan that is published herein, in accordance with HAVA section 254(a)(11)(C).

EAC notes that the plan published herein has already met the notice and comment requirements of HAVA section 256, as required by HAVA section 254(a)(11)(B). EAC wishes to acknowledge the effort that went into revising this State plan and encourages further public comment, in writing, to the State election official listed below.

Chief State Election Official

Colorado

Honorable Mike Coffman, Secretary of State, 1700 Broadway, Suite 270, Denver, CO 80290, Phone: (303) 894-2200 (Select “3” for the Elections Division), E-mail: sos.elections@sos.state.co.us.

Thank you for your interest in improving the voting process in America.

Dated: July 2, 2008.
Rosemary Rodriguez,
Chair, U.S. Election Assistance Commission.

BILLING CODE 6820-KF-P

[FR Doc. E8-15871 Filed 7-11-08; 8:45 am]

BILLING CODE 6820-KF-C